Title 3—

The President

Proclamation 7910 of June 10, 2005

Flag Day and National Flag Week, 2005

By the President of the United States of America

A Proclamation

For more than two centuries, the flag of the United States has been a symbol of hope and pride. The flag has inspired our citizens during times of conflict and comforted us during moments of sorrow and loss. On Flag Day and throughout National Flag Week, we celebrate the proud legacy of Old Glory and reflect on this enduring symbol of freedom.

On June 14, 1777, the Second Continental Congress passed a resolution stating that “the flag of the United States be thirteen stripes, alternate red and white; that the union be thirteen stars, white in a blue field.” As States have been added to the Union, the flag has been modified to reflect their addition to our Nation. Today, the appearance of our flag is based on President Eisenhower's Executive Order of August 21, 1959, to include a star for all 50 States together with 13 stripes representing the original 13 American colonies.

Generations of Americans in uniform have carried the Stars and Stripes into battle so that our citizens can live in freedom. Across the globe, a new generation of Soldiers, Sailors, Airmen, Marines, and Coast Guardsmen has stepped forward to serve under our flag, defending America from our enemies. We are grateful to them and their families for defending our flag and the values of our great Nation.

On this Flag Day, we recall the rich history of Old Glory, and we remember our duty to carry our heritage of freedom into the future.

To commemorate the adoption of our flag, the Congress, by joint resolution approved August 3, 1949, as amended (63 Stat. 492), designated June 14 of each year as “Flag Day” and requested that the President issue an annual proclamation calling for its observance and for the display of the flag of the United States on all Federal Government buildings. The Congress also requested, by joint resolution approved June 9, 1966, as amended (80 Stat. 194), that the President issue annually a proclamation designating the week in which June 14 occurs as “National Flag Week” and calling upon all citizens of the United States to display the flag during that week.

NOW, THEREFORE, I, GEORGE W. BUSH, President of the United States of America, do hereby proclaim June 14, 2005, as Flag Day and the week beginning June 12, 2005, as National Flag Week. I direct the appropriate officials to display the flag on all Federal Government buildings during that week, and I urge all Americans to observe Flag Day and National Flag Week by flying the Stars and Stripes from their homes and other suitable places. I also call upon the people of the United States to observe with pride and all due ceremony those days from Flag Day through Independence Day, also set aside by the Congress (89 Stat. 211), as a time to honor America, to celebrate our heritage in public gatherings and activities, and to publicly recite the Pledge of Allegiance to the Flag of the United States of America.

IN WITNESS WHEREOF, I have hereunto set my hand this tenth day of June, in the year of our Lord two thousand five, and of the Independence of the United States of America the two hundred and twenty-ninth.

B

[FR Doc. 05-11939

Filed 6-14-05; 9:04 am]

Billing code 3195-01-P